DEPARTMENT OF THE INTERIOR

Bureau of Indian Affairs

[167 A2100DD/AAKC001030/A0A501010.999900]

Renewal of Agency Information Collection for Tribal Energy Resource Agreements

AGENCY: Bureau of Indian Affairs, Interior.

ACTION: Notice of request for comments.

SUMMARY: In compliance with the Paperwork Reduction Act of 1995, the Assistant Secretary—Indian Affairs (IA) is seeking comments on the renewal of Office of Management and Budget (OMB) approval for the collection of information titled “Tribal Energy Resource Agreements” (TERAs) under the Office of Indian Energy and Economic Development Office (IEED) authorized by OMB Control Number 1076-0167. This information collection expires July 31, 2016. IA is also seeking comments as to how a reduction of burden could be achieved.

DATES: Submit comments on or before June 20, 2016.

ADDRESSES: You may submit comments on the information collection and on burden reduction to Ms. Elizabeth K. Appel, Director, Office of Regulatory Affairs & Collaborative Action, Office of the Assistant Secretary—Indian Affairs, U.S. Department of the Interior, telephone: (202) 273-4680; email: elizabeth.appel@bia.gov.

FOR FURTHER INFORMATION CONTACT: Ms. Elizabeth K. Appel, (202) 273-4680.

SUPPLEMENTARY INFORMATION:

I. Abstract

The Energy Policy Act of 2005, 25 U.S.C. 3503 authorizes the Secretary of the Interior to approve individual Tribal Energy Resource Agreements (TERAs). The intent of these agreements is to promote Tribal oversight and management of energy and mineral resource development on Tribal lands and further the goal of Indian self-determination. A TERA offers a Tribe an alternative for developing energy-related business agreements and awarding leases and granting rights-of-way for energy facilities without having to obtain further approval from the Secretary.

This information collection conducted under TERA regulations at 25 CFR 224 will allow IEED to determine the capacity of Tribes to manage the development of energy resources on Tribal lands. Information collection:

• Enables IEED to engage in a consultation process with Tribes that is designed to foster optimal pre-planning of development proposals and speed up the review and approval process for TERA agreements;

• Provides wide public notice and opportunity for review of TERA agreements by the public, industry, and government agencies;

• Ensures that the public has an avenue for review of the performance of Tribes in implementing a TERA;

• Creates a process for preventing damage to sensitive resources as well as ensuring that the public has fully communicated with the Tribe in the petition process;

• Ensures that a Tribe is fully aware of any attempt by the Department of the Interior to resume management authority over energy resources on Tribal lands; and

• Ensures that the Tribal government fully endorses any relinquishment of a TERA.

II. Request for Comments on Collection of Information

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Request for Comments on Burden Reduction

The Assistant Secretary—Indian Affairs also requests your comments on ways to revise and reduce the burden of the governing regulations for TERAs under 25 CFR 224. Currently, the total annual hour burden for this information collection is 10,752 hours with an estimated time per response from 32 to 1,080 hours. Please submit comments on the following topics to the contact listed in the ADDRESSES section of this notice: (1) The aspects of this information collection you identify as having the greatest burden, (2) Whether these burdensome aspects are the likely reason for an underutilization of TERAs; (3) Whether these burdensome aspects are required under statute or regulation, and (4) Any opportunities to reduce the burden of information collection, including but not limited to opportunities to reduce burdens associated with the application process by issuing guidance or instructions for prospective applicants.

Please also specify any language within the regulations that you believe should be adjusted in order to reduce the burden associated with this information collection. Additionally, if you believe that an adjustment to statutory language would reduce the burden associated with this information collection, please specifically identify this language.

III. Data

OMB Control Number: 1076-0167.

Title: Tribal Energy Resource Agreements.

Brief Description of Collection: Submission of this information is required for Indian Tribes to apply for, implement, reassume, or rescind a TERA that has been entered into in accordance with the Energy Policy Act of 2005 and 25 CFR 224. This collection also requires the Tribe to notify the public of certain actions.

Type of Review: Extension without change of currently approved collection.

Respondents: Federally recognized Indian Tribes.

Number of Respondents: 14.

Estimated Time per Response: Ranges from 32 hours to 1,080 hours.

Frequency of Response: On occasion.

Estimated Total Annual Hour Burden: 10,752 hours.

Obligation to Respond: A response is required to obtain a benefit.

Estimated Total Non-hour Cost Burden: $48,200.

Elizabeth K. Appel,
Director, Office of Regulatory Affairs and Collaborative Action—Indian Affairs.

[FR Doc. 2016-09019 Filed 4-18-16; 8:45 am]

BILLING CODE 4337-15-P